DEPARTMENT OF COMMERCE

National Oceanic and Atmospheric Administration

RIN 0648-XT54

Western Pacific Fishery Management Council; Public Meetings

AGENCY: National Marine Fisheries Service (NMFS), National Oceanic and Atmospheric Administration (NOAA), Commerce.

ACTION: Notice of public meeting.

SUMMARY: This notice advises the public that the Western Pacific Fishery Management Council (Council) will have public workshops to discuss fishery management issues, including catch shares and annual catch limits.

DATES: The workshops will be held January 16, 2010, in Kona; January 23, 2010, on Molokai; February 6, 2010, on Maui; February 13, 2010, in Honolulu; February 20, 2010, on Kauai; and February 27, 2010 in Hilo. For the specific times and the agenda for the workshops see SUPPLEMENTARY INFORMATION.

ADDRESSES: The workshops will be held at the King Kamehameha Hotel, 75-5660 Palani Road, Kailua-Kona, HI 96740; Mitchell Pauole Center, 90 Ainoa Street, Kaunakakai, Molokai, HI 96748; Maui Beach Hotel, 170 Kaahumanu Road, Kahului, HI 96732; Ala Moana Hotel, 410 Atkinson Drive, Honolulu, HI 96814; Kauai Beach Resort, 4331 Kauai Beach Drive, Lihue, HI 96766; Naniloa Hotel, 93 Banyan Drive, Hilo, 96720.

FOR FURTHER INFORMATION CONTACT: Kitty M. Simonds, Executive Director; telephone: (808) 522-8220.

SUPPLEMENTARY INFORMATION: The times and agenda for all meetings are as follows:

9 a.m. - 4 p.m.

Fisher's Forum: Fishery monitoring and Community Opportunities, with booths pertaining to Aha Moku, tagging, monitoring, grant opportunities, and Council programs.

10 a.m. - 12 noon

Workshop 1: Federal Fishery Initiatives

1. Welcome and Introductions

2. Presentation on monitoring stocks

3. Overview of new Magnuson-Stevens Act provisions

a. Annual Catch Limits

b. Non-commercial data / information initiatives and alternatives

c. Limited Access Privilege Programs / Catch Shares

d. Marine Spatial Zoning

e. Round-table discussion of presented topics

1:30 p.m. - 3:30 p.m.

Workshop 2: Community-based monitoring, management, and programs

1. Report on local issues raised at previous moku meetings

2. Community opportunities

a. CDPP

b. Marine education and training

c. Hawaii seafood promotion

d. Community monitoring

3. Other issues

Times and agenda are the same for each location. The order in which agenda items are addressed may change. Public comment will be accepted during the workshops.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: December 23, 2009.
Tracey L. Thompson,
Acting Director, Office of Sustainable Fisheries, National Marine Fisheries Service.

[FR Doc. E9-30766 Filed 12-28-09; 8:45 am]

BILLING CODE 3510-22-S